DEPARTMENT OF TRANSPORTATION

Federal Aviation Administration

14 CFR Part 39

[Docket No. FAA-2008-1085; Directorate Identifier 2008-CE-057-AD; Amendment 39-15777; AD 2008-26-11]

RIN 2120-AA64

Airworthiness Directives; Piper Aircraft, Inc. Models PA-46-350P, PA-46R-350T, and PA-46-500TP Airplanes

AGENCY: Federal Aviation Administration (FAA), Department of Transportation (DOT).

ACTION: Final rule.

SUMMARY: We are adopting a new airworthiness directive (AD) for certain Piper Aircraft, Inc. (Piper) Models PA-46-350P, PA-46R-350T, and PA-46-500TP airplanes. This AD requires you to install a stall warning heat control modification kit. This AD results from ice forming on the stall vane heater during flights into icing conditions with the landing gear down. We are issuing this AD to prevent ice from forming on the stall vane, which may result in failure of the stall warning system. This failure could result in the pilot being unaware of an approaching stall situation.

DATES: This AD becomes effective on January 28, 2009.

On January 28, 2009, the Director of the Federal Register approved the incorporation by reference of certain publications listed in this AD.

ADDRESSES: For service information identified in this AD, contact Piper Aircraft, Inc., 2926 Piper Drive, Vero Beach, Florida 32960; telephone: (772) 567-4361; fax: (772) 978-6573; Internet: http://www.newpiper.com/.

To view the AD docket, go to U.S. Department of Transportation, Docket Operations, M-30, West Building Ground Floor, Room W12-140, 1200 New Jersey Avenue, SE., Washington, DC 20590, or on the Internet at http://www.regulations.gov. The docket number is FAA-2008-1085; Directorate Identifier 2008-CE-057-AD.

FOR FURTHER INFORMATION CONTACT: John Lee, Aerospace Engineer, Federal Aviation Administration, Aircraft Certification Office, One Crown Center, 1895 Phoenix Blvd., Suite 450, Atlanta, Georgia 30349; telephone: (770) 994-6736; fax: (770) 703-6097.

SUPPLEMENTARY INFORMATION:

Discussion

On October 3, 2008, we issued a proposal to amend part 39 of the Federal Aviation Regulations (14 CFR part 39) to include an AD that would apply to certain Piper Models PA-46-350P, PA-46R-350T, and PA-46-500TP airplanes. This proposal was published in the Federal Register as a notice of proposed rulemaking (NPRM) on October 10, 2008 (73 FR 60201). The NPRM proposed to require you to install a stall warning heat control modification kit.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 803 airplanes in the U.S. registry.

We estimate the following costs to do the modification:

Labor cost | Parts cost | Total cost per airplane | Total cost on U.S. operators
1.5 work-hours × $80 per hour = $120 | $95 | $215 | $172,645

Warranty credit may be given to the extent noted in the service bulletin.

Authority for This Rulemaking

Title 49 of the United States Code specifies the FAA's authority to issue rules on aviation safety. Subtitle I, section 106 describes the authority of the FAA Administrator. Subtitle VII, Aviation Programs, describes in more detail the scope of the agency's authority.

We are issuing this rulemaking under the authority described in Subtitle VII, Part A, Subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2008-1085; Directorate Identifier 2008-CE-057-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new AD:

2008-26-11 Piper Aircraft, Inc.: Amendment 39-15777; Docket No. FAA-2008-1085; Directorate Identifier 2008-CE-057-AD.

Effective Date

(a) This AD becomes effective on January 28, 2009.

Affected ADs

(b) None.

Applicability

(c) This AD applies to the following airplane models and serial numbers that are certificated in any category:

Models | Serial Nos.
PA-46-350P | 4622001 through 4622200 and 4636001 through 4636445.
PA-46R-350T | 4692001 through 4692054.
PA-46-500TP | 4697001 through 4697365.

Unsafe Condition

(d) This AD results from ice forming on the stall vane heater during flights into icing conditions with the landing gear down. We are issuing this AD to prevent ice from forming on the stall vane, which may result in failure of the stall warning system. This failure could result in the pilot being unaware of an approaching stall situation.

Compliance

(e) To address this problem, you must do the following, unless already done:

Actions | Compliance | Procedures
Install Stall Warning Heat Control Modification Kit, Piper part number 88452-002 | Within the next 100 hours time-in-service after January 28, 2009 (the effective date of this AD) | As specified in Piper Mandatory Service Bulletin No. 1192, dated September 15, 2008, following Drawing No. 88452, dated June 19, 2008.

Alternative Methods of Compliance (AMOCs)

(f) The Manager, Atlanta Aircraft Certification Office (ACO), FAA, has the authority to approve AMOCs for this AD, if requested using the procedures found in 14 CFR 39.19. Send information to ATTN: John Lee, Aerospace Engineer, Federal Aviation Administration, Atlanta ACO, One Crown Center, 1895 Phoenix Blvd., Suite 450, Atlanta, Georgia 30349; telephone: (770) 994-6736; fax: (770) 703-6097. Before using any approved AMOC on any airplane to which the AMOC applies, notify your appropriate principal inspector (PI) in the FAA Flight Standards District Office (FSDO), or lacking a PI, your local FSDO.

Material Incorporated by Reference

(g) You must use Piper Mandatory Service Bulletin No. 1192, dated September 15, 2008, and Drawing No. 88452, dated June 19, 2008, to do the actions required by this AD, unless the AD specifies otherwise.

(1) The Director of the Federal Register approved the incorporation by reference of this service information under 5 U.S.C. 552(a) and 1 CFR part 51.

(2) For service information identified in this AD, contact Piper Aircraft, Inc., 2926 Piper Drive, Vero Beach, Florida 32960; telephone: (772) 567-4361; fax: (772) 978-6573; Internet: http://www.newpiper.com/.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on December 16, 2008.
John Colomy,
Acting Manager, Small Airplane Directorate, Aircraft Certification Service.

[FR Doc. E8-30406 Filed 12-23-08; 8:45 am]

BILLING CODE 4910-13-P